DEPARTMENT OF ENERGY

Federal Energy Regulatory Commission

[Docket No. ER01-2611-000, et al.]

Northeast Utilities Service Company, et al., Electric Rate and Corporate Regulation Filings

July 20, 2001.

Take notice that the following filings have been made with the Commission:

1. Northeast Utilities Service Company Select Energy, Inc.

[Docket No. ER01-2611-000]

Take notice that on July 17, 2001, Northeast Utilities Service Company (NUSCO) tendered for filing under Section 205 of the Federal Power Act, on behalf of Holyoke Water Power Company (HWP), Holyoke Power and Electric Company (HP&E), and Select Energy, Inc. (Select), a notice of termination of two power supply agreements and to amend another power supply agreement to reflect HWP's sale of certain hydroelectric facilities to the City of Holyoke Gas & Electric Department.

The Applicants state that copies of this filing have been sent to HWP, HP&E, and Select.

Comment date: August 7, 2001, in accordance with Standard Paragraph E at the end of this notice.

2. PECO Energy Company

[Docket No. ER01-2613-000]

Take notice that on July 16, 2001, PECO Energy Company (PECO) submitted for filing with the Federal Energy Regulatory Commission (Commission) a Construction Agreement between PECO and Old Dominion Electric Cooperative (Old Dominion) designated as PECO's Rate Schedule FERC No. 141, to be effective on July 17, 2001.

Copies of this filing were served on Old Dominion and PJM Interconnection, L.L.C.

Comment date: August 6, 2001, in accordance with Standard Paragraph E at the end of this notice.

3. California Independent System Operator Corporation

[Docket No. ER01-2614-000]

Take notice that on July 17, 2001, the California Independent System Operator Corporation, (ISO) tendered for filing with the Federal Energy Regulatory Commission (Commission) a Participating Generator Agreement between the ISO and Wildflower Energy, LP.

The ISO is requesting that the Participating Generator Agreement to be made effective July 2, 2001.

The ISO states that this filing has been served on Wildflower Energy, LP and the California Public Utilities Commission.

Comment date: August 7, 2001, in accordance with Standard Paragraph E at the end of this notice.

4. California Independent System Operator Corporation

[Docket No. ER01-2615-000]

Take notice that on July 17, 2001, the California Independent System Operator Corporation (ISO) tendered for filing a Meter Service Agreement for ISO Metered Entities between the ISO and Energy Transfer—Hanover Ventures, LP.

The ISO is requesting the Meter Service Agreement for ISO Metered Entities to be made effective July 2, 2001.

The ISO states that this filing has been served on Energy Transfer—Hanover Ventures, LP and the California Public Utilities Commission.

Comment date: August 7, 2001, in accordance with Standard Paragraph E at the end of this notice.

5. American Electric Power Service Corporation

[Docket No. ER01-2616-000]

Take notice that on July 17, 2001, Indiana Michigan Power Company tendered for filing an executed Interconnection and Operation Agreement between Indiana Michigan Power Company and Acadia Bay Energy Company, LLC. The agreement is pursuant to the AEP Companies' Open Access Transmission Service Tariff (OATT) that has been designated as the Operating Companies of the American Electric Power System FERC Electric Tariff Revised Volume No. 6, effective June 15, 2000.

AEP requests an effective date of August 10, 2001.

Copies of Indiana Michigan Power Company's filing have been served upon the Indiana Utility Regulatory Commission and Michigan Public Service Commission.

Comment date: August 7, 2001, in accordance with Standard Paragraph E at the end of this notice.

6. Panda Power Corporation

[Docket No. ER98-447-009]

Take notice that on July 16, 2001, Panda Power Corporation (PPC) tendered for filing a draft updated market power analysis and a change of status report. On July 17, 2001, PPC tendered for filing a revised updated market power analysis and change in status report pursuant to the Commission's order issued in this Docket on December 22, 1997.

Comment date: August 7, 2001, in accordance with Standard Paragraph E at the end of this notice.

7. Entergy Services, Inc.

[Docket No. ER01-1951-001]

Take notice that on July 17, 2001, Entergy Services, Inc. (Entergy Services), on behalf of Entergy Arkansas, Inc., Entergy Gulf States, Inc., Entergy Louisiana, Inc., Entergy Mississippi, Inc., and Entergy New Orleans, Inc. (collectively, the Entergy Operating Companies), tendered for filing a supplement to its May 3, 2001, filing of Entergy Services' 2001 annual rate redetermination update (2001 Rate Update) in Docket No. ER01-1951-000. The supplement adds two pages to the 2001 Rate Update that address transmission service credits, such pages being inadvertently omitted from the 2001 Rate Update filing.

Comment date: August 7, 2001, in accordance with Standard Paragraph E at the end of this notice.

8. Exelon Generation Company, LLC

[Docket No. ER01-2601-000]

Take notice that on July 17, 2001, Exelon Generation Company, LLC (Exelon Generation) submitted for filing with the Federal Energy Regulatory Commission (FERC or the Commission) a service agreement for wholesale power sales transactions between Exelon Generation and Wisconsin Public Power, Inc. under Exelon Generation's wholesale power sales tariff, FERC Electric Tariff, Original Volume No. 1.

Comment date: August 7, 2001, in accordance with Standard Paragraph E at the end of this notice.

9. Pinnacle West Capital Corporation

[Docket No. ER01-2602-000]

Take notice that on July 17, 2001, Pinnacle West Capital Corporation (PWCC) tendered for filing a Service Agreement, Rate Schedule FERC No. 4, under PWCC's Rate Schedule FERC No. 1 for service to Citizens Communications Company (Citizens). PWCC requests waiver of Commission Notice Requirements for an effective date of June 1, 2001.

A copy of this filing has been served on the Arizona Corporation Commission and Citizens.

Comment date: August 7, 2001, in accordance with Standard Paragraph E at the end of this notice.

10. California Independent System Operator Corporation

[Docket No. ER01-2603-000]

Take notice that the California Independent System Operator Corporation, (ISO) on July 17, 2001, tendered for filing a Meter Service Agreement for ISO Metered Entities between the ISO and Wildflower Energy LP for acceptance by the Commission. The ISO states that this filing has been served on Wildflower Energy LP and the California Public Utilities Commission.

The ISO is requesting waiver of the 60-day notice requirement to allow the Meter Service Agreement for ISO Metered Entities to be made effective July 2, 2001.

Comment date: August 7, 2001, in accordance with Standard Paragraph E at the end of this notice.

11. California Independent System Operator Corporation

[Docket No. ER01-2604-000]

Take notice that the California Independent System Operator Corporation, (ISO) on July 17, 2001, tendered for filing a Participating Generator Agreement between the ISO and Energy Transfer—Hanover Ventures, LP for acceptance by the Commission. The ISO states that this filing has been served on Energy Transfer—Hanover Ventures, LP and the California Public Utilities Commission.

The ISO is requesting waiver of the 60-day notice requirement to allow the Participating Generator Agreement to be made effective July 2, 2001.

Comment date: August 7, 2001, in accordance with Standard Paragraph E at the end of this notice.

12. Exelon Generation Company, LLC

[Docket No.ER01-2605-000]

Take notice that on July 17, 2001, Exelon Generation Company, LLC (Exelon Generation) submitted for filing with the Federal Energy Regulatory Commission (FERC or the Commission) a service agreement for wholesale power sales transactions between Exelon Generation and Illinois Municipal Electric Agency under Exelon Generation's wholesale power sales tariff, FERC Electric Tariff, Original Volume No. 1.

Comment date: August 7, 2001, in accordance with Standard Paragraph E at the end of this notice.

13. West Texas Utilities Company

[Docket No. ER01-2606-000]

Notice is hereby given that effective July 17, 2001, FERC Rate Schedule No. 66 (Agreement Providing for the Sale of Supplemental Capacity and Associated Energy by West Texas Utilities Company to the City of Coleman, Texas), having an initial effective date of August 11, 1992 with supplements filed on September 31, 1992, March 31, 1993, May 3, 1994, April 1, 1998, March 3, 1999 and May 31, 2000, and filed with the Federal Energy Regulatory Commission by West Texas Utilities Company is to be canceled.

Notice of the proposed cancellation has been served on the following:

Comment date: August 7, 2001, in accordance with Standard Paragraph E at the end of this notice.

14. Tenaska Power Services Co.

[Docket No. ER01-2607-000]

Take notice that on July 17, 2001, Tenaska Power Services Co. (Tenaska Power) tendered for filing with the Federal Energy Regulatory Commission (Commission) an application and revised tariff sheets seeking authorization to amend its power marketer tariff enabling Tenaska Power to reassign transmission capacity.

Comment date: August 7, 2001, in accordance with Standard Paragraph E at the end of this notice.

15. Arizona Public Service Company

[Docket No. ER01-2608-000]

Notice is hereby given that effective July 17, 2001, APS F.E.R.C. Rate Schedule No. 225, effective date March 1, 1995 and filed with the Federal Energy Regulatory Commission by Arizona Public Service Company is to be canceled.Notice of the proposed cancellation has been served upon Citizens Utilities Company and The Arizona Corporation Commission.

Comment date: August 7, 2001, in accordance with Standard Paragraph E at the end of this notice.

16. Southern California Edison Company

[Docket No. ER01-2609-000]

Take notice that on July 17, 2001, Southern California Edison Company (SCE) tendered for filing under SCE's Transmission Owner Tariff an unexecuted Interconnection Facilities Agreement (Agreement) between SCE and Wildflower Energy LP (Wildflower). Copies of this filing were served upon the Public Utilities Commission of the State of California and Wildflower.

SCE respectfully requests the Interconnection Agreement to become effective July 18, 2001.

Comment date: August 7, 2001, in accordance with Standard Paragraph E at the end of this notice.

17. Central Maine Power Company

[Docket No. ER01-2610-000]

Take notice that Central Maine Power Company (CMP), on July 17, 2001, tendered for filing pursuant to Section 205 of the Federal Power Act (FPA) of the Federal Energy Regulatory Commission (Commission or FERC), an “Amendment to Nuclear Entitlement Agreement” (the Amendment) between CMP and Engage Energy America LLC (Engage). In compliance with Order No. 614, FERC Stats. & Regs. 31,096 (2000), CMP also tendered for filing a First Revised Nuclear Entitlement Agreement (the First Revised Agreement), revised pursuant to the Amendment.

CMP respectfully requests that the Commission accept the Amendment and the First Revised Agreement effective as of June 26, 2001, without modification or condition, and grant waiver of any and all requirements.

Comment date: August 7, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18613 Filed 7-25-01; 8:45 am]

BILLING CODE 6717-01-P